SURFACE TRANSPORTATION BOARD

[Docket No. FD 36805]

Delmarva Central Railroad Company—Acquisition Exemption—Line of The Maryland and Delaware Railroad Company

Delmarva Central Railroad Company (DCR), a Class III rail carrier, has filed a verified notice of exemption under 49 CFR part 1150.41 to acquire from The Maryland and Delaware Railroad Company (MDDE) an approximately 3.0-mile rail line known as the Snow Hill North Line, extending between the connection with DCR at milepost 39.0 at Frankford, Del., and milepost 42.0 immediately south of Fava Road at Selbyville, Del. (the Line).

The verified notice states that Carload Express, Inc. (the parent company of DCR), Old Line Holding Company, Inc. (the parent company of MDDE), and MDDE have entered into a purchase agreement dated August 1, 2024, pursuant to which the Line will be acquired by DCR as a designated corporate affiliate of Carload Express. DCR states that it will operate the Line as an extension of its existing rail line to Frankford from Harrington, Del.¹

¹ According to DCR, the purchase agreement further provides that, after DCR's acquisition of the Line, Carload Express, Inc., will file for Board authority to control MDDE, and Old Line Holding Company, Inc., will file for Board authority to acquire from MDDE the “Snow Hill South Line,” which extends south from milepost 42.0 at Selbyville.

DCR certifies that its projected annual revenues as a result this transaction will not result in the creation of a Class II or Class I rail carrier. Pursuant to 49 CFR 1150.42(e), if a carrier's projected annual revenues will exceed $5 million, it must, at least 60 days before the exemption is to become effective, post a notice of its intent to undertake the proposed transaction at the workplace of the employees on the affected lines, serve a copy of the notice on the national offices of the labor unions with employees on the affected lines, and certify to the Board that it has done so. On August 20, 2024, DCR certified that it posted the required 60-day notice at the workplaces of current MDDE employees who work on the Line.²

² According to the verified notice, MDDE employees are not represented by any labor union.

DCR also certifies that the proposed acquisition and operation of the Lines does not involve a provision or agreement that may limit future interchange with a third-party connecting carrier.

The transaction may be consummated on or after October 20, 2024, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than October 11, 2024 (at least seven days before the exemption becomes effective).

All pleadings, referring to Docket No. FD 36805, must be filed with the Surface Transportation Board either via e-filing on the Board's website or in writing addressed to 395 E Street SW, Washington, DC 20423-0001. In addition, a copy of each pleading must be served on DCR's representative, Thomas J. Litwiler, Fletcher & Sippel LLC, 29 North Wacker Drive, Suite 800, Chicago, IL 60606-3208.

According to DCR, this action is categorically excluded from environmental review under 49 CFR 1105.6(c) and from historic preservation reporting requirements under 49 CFR 1105.8(b).

Board decisions and notices are available at www.stb.gov.

Decided: September 30, 2024.
By the Board, Valerie O. Quinn, Acting Director, Office of Proceedings.
Stefan Rice,
Clearance Clerk.

[FR Doc. 2024-22951 Filed 10-3-24; 8:45 am]

BILLING CODE 4915-01-P